ENVIRONMENTAL PROTECTION AGENCY

40 CFR Part 300

[FRL-8211-6]

National Oil and Hazardous Substances Pollution Contingency Plan; National Priorities List Update

AGENCY: Environmental Protection Agency.

ACTION: Notice of deletion of the T.H. Agriculture and Nutrition Superfund site from the National Priorities List.

SUMMARY: The Environmental Protection Agency (EPA) announces the deletion of the T.H. Agriculture and Nutrition Site in the City of Fresno, Fresno County, California, from the National Priorities List (NPL). The NPL is Appendix B of 40 CFR part 300 which is the National Oil and Hazardous Substances Pollution Contingency Plan (NCP), which EPA promulgated pursuant to section 105 of the Comprehensive Environmental Response, Compensation, and Liability Act of 1980 (CERCLA), as amended. EPA and the State of California have determined that the Site poses no significant threat to public health or the environment and, therefore, no further remedial measures pursuant to CERCLA are appropriate.

DATES: Effective Date: August 21, 2006.

FOR FURTHER INFORMATION CONTACT: Lynn Suer, Remedial Project Manager, U.S. Environmental Protection Agency, Region 9, 75 Hawthorne Street, SFD-7-2, San Francisco, California 94105, (415) 972-3148.

SUPPLEMENTARY INFORMATION: The site to be deleted from the NPL is: T.H. Agriculture and Nutrition, City of Fresno, Fresno County, California. A Notice of Intent to Delete for this Site was published in the Federal Register on July 11, 2006 (71 FR 39032). The closing date for comments on the Notice of Intent to Delete was August 10. No comments were received. Therefore, EPA has not prepared a Responsiveness Summary. EPA identifies sites that appear to present a significant risk to public health, welfare, or the environment and it maintains the NPL as the list of those sites. Any site deleted from the NPL remains eligible for Fund-financed remedial actions in the unlikely event that conditions at the site warrant such action. Section 300.425(e)(3) of the NCP states that Fund-financed actions may be taken at sites deleted from the NPL. Deletion of a site from the NPL does not affect responsible party liability or impede agency efforts to recover costs associated with response efforts.

List of Subjects in 40 CFR Part 300

Environmental protection, Air pollution control, Chemicals, Hazardous substances, Hazardous waste, Intergovernmental relations, Penalties, Reporting and recordkeeping requirements, Superfund, Water pollution control, Water supply.

Dated: August 11, 2006.
Keith Takata,
Acting Regional Administrator, Region 9.

For the reasons set out in the preamble, 40 CFR part 300 is amended as follows:

PART 300—[AMENDED]

1. The authority citation for part 300 continues to read as follows:

Authority: 42 U.S.C. 9601-9657; 33 U.S.C. 1321(c)(2); E.O. 12777, 56 FR 54757, 3 CFR, 1991 Comp., p. 351; E.O. 12580, 52 FR 2923, 3 CFR, 1987 Comp., p.193.

Appendix B—[Amended]

2. Table 1 of Appendix B to part 300 is amended by removing the entry for the “T. H. Agriculture & Nutrition Co.” site in Fresno, Fresno County, California.

[FR Doc. E6-13745 Filed 8-18-06; 8:45 am]

BILLING CODE 6560-50-P